DEPARTMENT OF THE INTERIOR

Fish and Wildlife Service

Notice of Receipt of Applications for Endangered Species Recovery Permit

AGENCY: Fish and Wildlife Service, Interior.

ACTION: Notice of receipt of permit applications.

SUMMARY: The following applicants have applied for a scientific research permit to conduct certain activities with endangered species pursuant to section 10(a)(1)(A) of the Endangered Species Act (16 U.S.C. 1531 et seq.). The U.S. Fish and Wildlife Service (Service) , solicit review and comment from local, State, and Federal agencies, and the public on the following permit requests.

DATES: Comments on these permit applications must be received on or before November 6, 2002, to receive our consideration.

ADDRESSES: Written data or comments should be submitted to the Chief, Endangered Species, Ecological Services, U.S. Fish and Wildlife Service, 911 NE. 11th Avenue, Portland, Oregon 97232-4181 (fax: 503-231-6243). Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 20 days of the date of publication of this notice to the address above (telephone: 503-231-2063). Please refer to the respective permit number for each application when requesting copies of documents.

SUPPLEMENTARY INFORMATION:

Permit No. TE-776608

Applicant: Monk & Associates LLC, Walnut Creek, California.

The permittee requests an amendment to take (harass by survey, capture, handle, and release) the Sonoma distinct population segment (DPS) of the California tiger salamander (Ambystoma californiense) in conjunction with demographic research in Sonoma County, California for the purpose of enhancing its survival.

Permit No. TE-028605

Applicant: SWCA Inc., Environmental Consultants, Mission Viejo, California.

The permittee requests an amendment to take (harass by survey) the southwestern willow flycatcher (Empidonax traillii extimus) and the California least tern (Sterna antillarum browni) in conjunction with demographic research throughout the range of each species in California for the purpose of enhancing their survival.

Permit No. TE-060971

Applicant: Paul De Ley, University of California, Riverside, California.

The applicant requests a permit to take (collect) the cysts of the Riverside fairy shrimp (Streptocephalus woottoni), and remove/reduce to possession root material of Eryngium aristulatum var. parishii (San Diego button-celery) and Orcuttia californica (California Orcutt grass) in conjunction with research on nematodes in Riverside County, California for the purpose of enhancing their survival.

Permit No. TE-061146

Applicant: Deborah Clark, Corvallis, Oregon.

The applicant requests a permit to take (kill) the Fender's blue butterfly (Icaricia icarioides fenderii) in conjunction with habitat restoration using herbicides in Benton County, Oregon for the purpose of enhancing its survival.

Permit No. TE-061625

Applicant: Stephanie Owens, San Diego, California.

The applicant requests a permit to take (monitor nests) the least Bell's vireo (Vireo bellii pusillus), and (survey by pursuit) the Quino checkerspot butterfly (Euphydryas editha quino) in conjunction with demographic research throughout the range of each species in California for the purpose of enhancing their survival.

Permit No. TE-797267

Applicant: H.T. Harvey and Associates, San Jose, California.

The permittee requests an amendment to take (harass by survey, capture, handle, and release) the Sonoma and the Santa Barbara DPSs of the California tiger salamander (Ambystoma californiense) in conjunction with demographic research in Sonoma and Santa Barbara Counties, California for the purpose of enhancing their survival.

Permit No. TE-061844

Applicant: Nathaniel Goldstein, Boulder, Colorado.

The applicant requests a permit to take (harass by survey, fin clip, release, and remove from the wild) the Ash Meadows pupfish (Cyprinodon nevadensis mionectes) in conjunction with demographic research in the Ash Meadows Wildlife Refuge in Nevada for the purpose of enhancing its survival.

Permit No. TE-061375

Applicant: Renee Spenst, Sacramento, California.

The applicant requests a permit to take (harass) the California clapper rail (Rallus longirostris obsoletus) and the salt marsh harvest mouse (Reithrodontomys raviventris) in conjunction with scientific research in Alameda and Solano Counties, California for the purpose of enhancing their survival.

Permit No. TE-815537

Applicant: Karen Swaim, Livermoore, California.

The permittee requests an amendment to take (insert passive integrated transponder tags and tail clip) the San Francisco garter snake (Thamnophis sirtalis) in conjunction with scientific research throughout the range of the species for the purpose of enhancing its survival.

Permit No. TE-059612

Applicant: David Armes, Fresno, California.

The applicant requests a permit to take (harass by survey, collect, and sacrifice) the Conservancy fairy shrimp (Branchinecta conservatio), the longhorn fairy shrimp (Branchinecta longiantenna), the San Diego fairy shrimp (Branchinecta sandiegonensis), the vernal pool tadpole shrimp (Lepidurus packardi), and the Riverside fairy shrimp (Streptocephalus wootoni) in conjunction with surveys throughout the range of each species for the purpose of enhancing their survival.

Permit No. TE-023250

Applicant: Department of the Navy, San Diego, California.

The permittee requests an amendment to remove/reduce to possession (collect plants, tissue, and seeds) the Sibara filifolia (Santa Cruz Island rock cress) and Lithophragma maximum (San Clemente Island woodland star) in conjunction with propagation studies and surveys for genetic variation in the Channel Islands, California for the purpose of enhancing their survival.

Permit No. TE-062121

Applicant: Ryan R. Young, Carlsbad, California.

The applicant requests a permit to take (harass by survey) the southwestern willow flycatcher (Empidonax traillii extimus), the light-footed clapper rail (Rallus longirostris levipes), and the Yuma clapper rail (Rallus longirostris yumanensis) in conjunction with demographic surveys in San Diego, Ventura, Orange, Imperial, Kern, and San Bernardino Counties in California; and Yuma, La Paz, and Mohave Counties in Arizona for the purpose of enhancing their survival.

Permit No. TE-062335

Applicant: City of Santa Rosa, Santa Rosa, California.

The applicant requests a permit to take (harass by survey, capture, handle, and release) the Sonoma distinct population segment (DPS) of the California tiger salamander (Ambystoma californiense) in conjunction with demographic research in Sonoma County, California for the purpose of enhancing its survival.

FWS solicits public review and comment on each of these permit applications.

Dated: September 20, 2002.
Rowan W. Gould,
Acting Regional Director, Region 1, Portland, Oregon.

[FR Doc. 02-25456 Filed 10-4-02; 8:45 am]

BILLING CODE 4310-55-P